GENERAL SERVICES ADMINISTRATION

Federal Travel Regulation; National Travel Conference 2000

AGENCY: Office of Governmentwide Policy, GSA.

ACTION: Notice.

SUMMARY: The General Services Administration (GSA) is announcing that significant changes to the Federal Travel Regulation will be discussed at a national travel conference to be held in Orlando, Florida, October 30 through November 1, 2000. Additionally, Travel Managers of the Year Awards will be presented by Government Executive magazine. Federal agencies may hold agency-wide meetings at this conference.

FOR FURTHER INFORMATION CONTACT: Jane Groat, Office of Governmentwide Policy, Travel Management Policy Division, at (202) 501-4318, or by e-mail to jane.groat@gsa.gov or at www.nationaltravel2000.com.

Dated: June 30, 2000.
William T. Rivers,
Acting Director, Travel Management Policy Division.

[FR Doc. 00-17076 Filed 7-5-00; 8:45 am]

BILLING CODE 6820-34-P